DEPARTMENT OF COMMERCE

National Oceanic and Atmospheric Administration

50 CFR Part 300

[Docket No. 090130104-91027-02]

RIN 0648-XW12

International Fisheries; Western and Central Pacific Fisheries for Highly Migratory Species; Fishing Restrictions and Observer Requirements in Purse Seine Fisheries for 2009-2011

AGENCY: National Marine Fisheries Service (NMFS), National Oceanic and Atmospheric Administration (NOAA), Commerce.

ACTION: Rule; announcement of date of applicability.

SUMMARY: NMFS announces that the catch retention requirements for U.S. purse seine fishing vessels operating in the area of application of the Convention on the Conservation and Management of Highly Migratory Fish Stocks in the Western and Central Pacific Ocean (Convention Area) will be applicable from 00:00 on June 14, 2010, Universal Coordinated Time (UTC). In accordance with regulations, the requirements will be applicable until 24:00 on December 31, 2011, UTC, or until nullified by a notification in the Federal Register. This action is being taken to implement, for U.S. fishing vessels, the catch retention measures adopted by the Commission for the Conservation and Management of Highly Migratory Fish Stocks in the Western and Central Pacific Ocean (WCPFC) at its regular annual session in December 2008. The action will have the effect of requiring that U.S. purse seine vessels do not discard any bigeye tuna, yellowfin tuna, or skipjack tuna at sea within the Convention Area, except in certain specified circumstances.

DATES: The date of applicability of 50 CFR 300.223(d) is 00:00 on June 14, 2010, UTC, and the requirements of that paragraph will be applicable until 24:00 on December 31, 2011, UTC, or until nullified by a notification in the Federal Register.

FOR FURTHER INFORMATION CONTACT: Tom Graham, NMFS Pacific Islands Regional Office, 808-944-2219.

SUPPLEMENTARY INFORMATION: Regulations at 50 CFR 300.223(d)(1) provide for NMFS to publish a notification in the Federal Register announcing the “effective date” of the catch retention requirements set forth at 50 CFR 300.223(d)(3), which apply to U.S. fishing vessels equipped with purse seine gear operating in the Convention Area. The phrase “effective date” as used in 50 CFR 300.223(d) is synonymous with the “date of applicability” in this notice of the catch retention requirements. The term “date of applicability” is used here to clarify that the regulation, including 50 CFR 300.223(d)(1), became effective (but not yet applicable) on August 3, 2009. The regulations at 50 CFR 300.223(d) establish the catch retention requirements adopted by the WCPFC. The notification by NMFS is to be based on NMFS' determination as to whether an adequate number of WCPFC observers is available for the purse seine vessels of all members of the WCPFC as necessary to ensure compliance by such vessels with the catch retention requirements established by the WCPFC. Based upon information provided by the WCPFC Secretariat, NMFS has determined that an adequate number of WCPFC observers is currently available for placement aboard purse seine vessels of all WCPFC members. Accordingly, NMFS announces through this document that the date of applicability of the catch retention requirements is 00:00 on June 14, 2010, UTC. In accordance with 50 CFR 300.223(d)(3), the requirements will be applicable until 24:00 on December 31, 2011, UTC, or until they are nullified by a notification in the Federal Register pursuant to 50 CFR 300.223(d)(2).

Further information about the Convention, the catch retention requirements established by the WCPFC, and the basis for the catch retention requirements for U.S. fishing vessels set forth at 50 CFR 300.223(d) can be found in the proposed and final rules to establish the requirements for U.S. fishing vessels (74 FR 26160, June 1, 2009; and 74 FR 38544, August 4, 2009; respectively).

Classification

This action is required by 50 CFR 300.223(d) and is exempt from review under Executive Order 12866.

Pursuant to 5 U.S.C. 553(b)(B), the NMFS Assistant Administrator for Fisheries finds good cause to waive the requirement to provide prior notice and an opportunity for public comment on this action, as such procedures would be unnecessary and contrary to the public interest. Such procedures would be unnecessary as NMFS provided prior notice and an opportunity for public comment on the regulations establishing the criteria for implementing the catch retention requirement (proposed rule published at 74 FR 26160, June 1, 2009, and final rule published at 74 FR 38544, August 4, 2009), and all that remains is to notify the public of the date of applicability of the requirement. In addition, prior notice and comment would be contrary to the public interest because it would unnecessarily delay implementation of the catch retention requirement, an international obligation of the United States under the Convention, after a determination that there is a sufficient number of observers for placement aboard purse seine vessels of WCPFC members.

Authority: 16 U.S.C. 6901 et seq.

Dated: May 7, 2010.
Samuel D. Rauch III,
Deputy Assistant Administrator for Regulatory Programs, National Marine Fisheries Service.

[FR Doc. 2010-11348 Filed 5-13-10; 8:45 am]

BILLING CODE 3510-22-P